FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012455.

Title: VWKL and NYK Space Charter Agreement.

Parties: Volkswagen Konzernlogistik GmbH & Co. OHG and Nippon Yusen Kaisha.

Filing Party: Jacob K. Lee, Esq.; NYK Line (North America) Inc.; 300 Lighting Way, 5th Floor; Secaucus, NJ 07094.

Synopsis: The Agreement authorizes VWKL and NYK to share vessels and vessel space in the trade between the U.S. and all foreign ports.

Agreement No.: 012456.

Title: Turkon Lines—Nile Dutch Africa Space and Sailing Agreement.

Parties: Nile Dutch Africa Line BV and Turkon Container Transportation & Shipping, Inc.

Filing Party: Eric Lee, Esq.; Holland & Knight LLP; 800 17th Street NW., Suite 1100; Washington, DC 20006.

Synopsis: The Agreement allows Turkon Lines and Nile Dutch Africa Lines to share vessels and vessel space in the trades between the U.S. East Coast on the one hand, and ports on the Mediterranean Sea and the North, West, and South Coasts of Africa on the other hand.

By Order of the Federal Maritime Commission.
Dated: January 27, 2017.
Rachel E. Dickon,
Assistant Secretary.

[FR Doc. 2017-02148 Filed 1-31-17; 8:45 am]

BILLING CODE 6731-AA-P